DEPARTMENT OF TRANSPORTATION

Federal Aviation Administration

Notice of Intent To Rule on Application 02-04-C-00-IAD To Impose and Use the Revenue From a Passenger Facility Charge at Washington Dulles International Airport, Chantilly, VA

AGENCY: Federal Aviation Administration (FAA), DOT.

ACTION: Notice of intent to rule on application.

SUMMARY: The FAA proposes to rule and invites public comment on the application to impose and use the revenue from a Passenger Facility Charge (PFC) at Washington Dulles International Airport under the provisions of the Aviation Safety and Capacity Expansion Act of 1990 (Title IX of the Omnibus Budget Reconciliation Act of 1990) (Public Law 101-508) and part 158 of the Federal Aviation Regulations (14 CFR part 158).

DATES: Comments must be received on or before June 19, 2002.

ADDRESSES: Comments on this application may be mailed or delivered in triplicate to the FAA at the following address: 1 Aviation Plaza, Airports Division, AEA-610, Jamaica, New York 11434.

In addition, one copy of any comments submitted to the FAA must be mailed or delivered to Brian Duffy, Manager, Fiscal Programs of the Metropolitan Washington Airports Authority (MWAA) at the following address: 1 Aviation Circle, Washington, DC 20001-6000.

Air carriers and foreign air carriers may submit copies of written comments previously provided to the MWAA under section 158.23 of part 158.

FOR FURTHER INFORMATION CONTACT: Eleanor Schifflin, PFC Program Manager, Airports Division, 1 Aviation Plaza, Jamaica, New York 11434, (718) 553-3354. The application may be reviewed in person at this same location.

SUPPLEMENTARY INFORMATION: The FAA proposes to rule and invites public comment on the application to impose and use the revenue from a PFC at Washington Dulles International Airport under the provisions of the Aviation Safety and Capacity Expansion Act of 1990 (Title IX of the Omnibus Budget Reconciliation Act of 1990) (Pub. L.) 101-508) and part 158 of the Federal Aviation Regulations (14 CFR part 158).

On May 8, 2002, the FAA determined that the application to impose and use the revenue from a PFC submitted by MWAA was substantially complete within the requirements of section 158.25 of part 158. The FAA will approve or disapprove the application, in whole or in part, no later than September 4, 2002.

The following is a brief overview of the application.

PFC Application No.: 02-04-C-00-IAD.

Level of the proposed PFC: $4.50.

Proposed charge effective date: December 1, 2006.

Proposed charge expiration date: August 1, 2008.

Total estimated PFC revenue: $59,102,550.

Brief description of proposed projects(s):

—Concourse B Expansion

—Wetland Mitigation Program

Class or classes of air carriers which the public agency has requested not be required to collect PFCs: None.

Any person may inspect the application in person at the FAA office listed above under FOR FURTHER INFORMATION CONTACT and at the Washington Airport District Office: 23723 Air Freight Ln., Suite 210, Dulles, Virginia 20166.

In addition, any person may, upon request, inspect the application, notice and other documents germane to the application in person at the Metropolitan Washington Airports Authority.

Dated: Issued in Jamaica, New York on May, 2002.
Eleanor Schifflin,
PFC Program Manager, AEA-610, Eastern Region.

[FR Doc. 02-12614 Filed 5-17-02; 8:45 am]

BILLING CODE 4910-13-M